ENVIRONMENTAL PROTECTION AGENCY

[FRL-7124-6]

Agency Information Collection Activities; Submission to OMB; Comment Request; EPA ICR No. 1759.03/OMB Control No. 2070-0148; Agricultural Worker Protection Standard Training and Notification

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Worker Protection Standard Training and Notification; EPA ICR No. 1759.03; OMB Control No. 2070-0148. The ICR, which is abstracted below, describes the nature of the information collection activity and its estimated burden and costs. The Federal Register document required under 5 CFR 1320.8(d) that solicited comments on this collection of information published on January 31, 2001 (66 FR 8397). EPA received no comments on this ICR during the 60-day comment period that was provided.

DATES: Additional comments may be submitted on or before February 4, 2002.

ADDRESSES: Send your comments, referencing the proper ICR numbers to: Ms. Sandy Farmer, U.S. Environmental Protection Agency, Office of Environmental Information, Collection Strategies Division (2822), 1200 Pennsylvania Ave, NW., Washington, DC 20460; and send a copy of your comments to: Office of Information and Regulatory Affairs, Office of Management and Budget (OMB), Attention: Desk Officer for EPA, 725 17th Street, NW., Washington, DC 20503.

FOR FURTHER INFORMATION CONTACT: Sandy Farmer at EPA by phone on 202-260-2740, by E-mail: farmer.sandy@epa.gov or access the ICR at http://www.epa.gov/icr/icr.htm and refer to EPA ICR No. 1759.03; OMB Control No. 2070-0148.

SUPPLEMENTARY INFORMATION: ICR Title: Worker Protection Standard Training and Notification (EPA ICR 1759.03, OMB Control No. 2070-0148).

ICR Status: This is a request for extension of an existing approved collection that is currently scheduled to expire on December 31, 2001. EPA is asking OMB to approve this ICR for three years. Under 5 CFR 1320.10(e)(2), the Agency may continue to conduct or sponsor the collection of information while the submission is pending at OMB.

Abstract: The Federal Insecticide, Fungicide and Rodenticide Act (FIFRA) (7 U.S.C. 136) requires the Agency (EPA) to register pesticides prior to distribution and sale within the United States. The Agency is responsible for the regulation of pesticides under the Federal Insecticide, Fungicide, and Rodenticide Act (FIFRA). The Worker Protection Standard (WPS) for agricultural pesticides, 40 CFR part 170, includes requirements for protection of agricultural workers and pesticide handlers from hazards of pesticides used on farms, on forests, in nurseries and in greenhouses. The WPS is designed to reduce or eliminate exposure to pesticides and establish procedures for responding to exposure-related emergencies. The WPS requirements include prohibitions against applying pesticides in a way that would cause exposure to workers and others; a waiting period before workers can return to areas treated with pesticides; basic safety training and distribution and posting of information about pesticide hazards, as well as pesticide application information; arrangements for the supply of soap, water, and towels in case of pesticide exposure; and provisions for emergency assistance. The information collection activity involves the training of agricultural workers and information exchanges (third party notifications) between agricultural employers and employees at farm, forest, nursery and greenhouse establishments to ensure worker safety. No information is collected by the Agency under this ICR.

Burden Statement: The total annual respondent burden for providing the notifications associated with the Pesticides Worker Protection Standards as a whole is estimated to be 2,294,625 hours, with incremental activity burdens ranging from 2 minutes per respondent to provide initial basic safety information and 45 minutes per respondent for handler training. According to the PRA, “burden” means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The Agency may not conduct or sponsor, and a person is not required to respond to a collection of information that is subject to approval under the PRA, unless it displays a currently valid OMB control number. The OMB control numbers for EPA's information collections appear on the collection instruments or instructions, in the Federal Register notices for related rulemakings and ICR notices, and, if the collection is contained in a regulation, in a table of OMB approval numbers in 40 CFR part 9.

The ICR provides a detailed explanation of the information collection activity and the corresponding burden estimate, which is only briefly summarized here.

Respondents/affected entities: 4,476,250.

Estimated total number of potential respondents: 4,476,250.

Frequency of response: As needed.

Estimated total/average number of responses for each respondent: 3.

Estimated total annual burden hours: 2,294,625.

Estimated total annual burden costs: $94,883,757.

Changes in the ICR Since the Last Approval: The total annual burden associated with this ICR has increased by 52,183 hours, from 2,242,442 hours in the previous ICR to 2,294,625 hours for this renewal ICR. The change is primarily related to information EPA obtained through the consultation process required by the PRA that led the Agency to increase its training burden estimate, and is described in detail in the ICR.

According to the procedures prescribed in 5 CFR 1320.12, EPA has submitted this ICR to OMB for review and approval. Any comments related to the renewal of this ICR should be submitted within 30 days of this notice, as described above.

Dated: December 19, 2001.
Oscar Morales,
Director, Collection Strategies Division.

[FR Doc. 02-112 Filed 1-2-02; 8:45 am]

BILLING CODE 6560-50-P